DEPARTMENT OF COMMERCE

International Trade Administration

(A-580-809)

Circular Welded Non-Alloy Steel Pipe from the Republic of Korea: Initiation of New Shipper Antidumping Duty Review

AGENCY: Import Administration, International Trade Administration, Department of Commerce.

SUMMARY: On November 28, 2008, the Department of Commerce (“the Department”) received a request for a new shipper review of the antidumping duty order on circular welded non-alloy steel pipe from the Republic of Korea (“Korea”). In accordance with section 751(a)(2)(B) of the Tariff Act of 1930, as amended (“the Act”), and 19 CFR 351.214(d), we are initiating an antidumping new shipper review of A-JU Besteel Co., Ltd. (“Ajubesteel”) for the period November 1, 2007 through October 31, 2008.

EFFECTIVE DATE: December 31, 2008.

FOR FURTHER INFORMATION CONTACT: Shane Subler or Joe Shuler, AD/CVD Operations, Office 1, Import Administration, International Trade Administration, U.S. Department of Commerce, 14th Street and Constitution Avenue, NW, Washington, DC 20230; telephone: (202) 482-0189 or (202) 482-1293, respectively.

SUPPLEMENTARY INFORMATION:

Background

The Department received a timely request from Ajubesteel, in accordance with 19 CFR 351.214(c), for a new shipper review of the antidumping duty order on circular welded non-alloy steel pipe from Korea, which has a November anniversary month.¹ Pursuant to 19 CFR 351.214(b), Ajubesteel certified that it is both an exporter and producer of the subject merchandise, that it did not export subject merchandise to the United States during the period of investigation (“POI”) (April 1, 1991, through September 30, 1991), and that since the investigation was initiated, it has never been affiliated with any exporter or producer who exported the subject merchandise to the United States during the POI. Ajubesteel also submitted documentation establishing the date on which the subject merchandise was first entered for consumption, the volume shipped, and the date of its first sale to an unaffiliated customer in the United States.

¹ See Notice of Antidumping Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

Initiation of New Shipper Review

In accordance with section 751 (a)(2)(B) of the Act and 19 CFR 351.214(d), we are initiating a new shipper review of the antidumping duty order on Circular Welded Non-Alloy Steel Pipe from Korea (produced and exported) by Ajubesteel. See Memorandum to the File through Susan Kuhbach, Director, AD/CVD Operations Office 1, Import Administration from the Team, “New Shipper Review Initiation Checklist,” dated December 12, 2008, on file in the Central Records Unit, room 1117, of the main Department of Commerce building. This review covers the period from November 1, 2007 through October 31, 2008, in accordance with 19 CFR 351.214(g)(1)(i)(A). We intend to issue the preliminary results of this review no later than 180 days after the date on which this review is initiated, and the final results within 90 days after the date on which we issue the preliminary results. See section 751(a)(2)(B)(iv) of the Act.

On August 17, 2006, the Pension Protection Act of 2006 (H.R. 4) was signed into law. Section 1632 of H.R. 4 temporarily suspends the authority of the Department to instruct U.S. Customs and Border Protection to collect a bond or other security in lieu of a cash deposit in new-shipper reviews. Therefore, the posting of a bond under section 751(a)(2)(B)(iii) of the Act and 19 CFR 351.214(e) in lieu of a cash deposit is not available in this case. Importers of subject merchandise manufactured and exported by Ajubesteel must continue to pay a cash deposit of estimated antidumping duties on each entry of subject merchandise at the current all-others rate of 4.80 percent. See Circular Welded Non-Alloy Steel Pipe From the Republic of Korea; Final Results of Administrative Review, 69 FR 32492 (June 10, 2004).

Interested parties may submit applications for disclosure under administrative protective order in accordance with 19 CFR 351.305 and 351.306.

This initiation and notice are in accordance with section 751(a)(2)(B) of the Act and 19 CFR 351.214(d).

Dated: December 22, 2008.
Stephen J. Claeys,
Deputy Assistant Secretary for Antidumping and Countervailing Duty Operations.

[FR Doc. E8-31173 Filed 12-30-08; 8:45 am]

BILLING CODE 3510-DS-S